DEPARTMENT OF THE INTERIOR

Minerals Management Service

Outer Continental Shelf Official Protraction Diagrams

AGENCY: Minerals Management Service, Interior.

ACTION: Availability of new North American Datum of 1983 (NAD 83) Outer Continental Shelf Official Protraction Diagrams.

SUMMARY: Notice is hereby given that effective with this publication, the following NAD 83-based Outer Continental Shelf Official Protraction Diagrams last revised on the date indicated are the latest documents available. These diagrams are on file and available for information only, in the Alaska OCS Regional Office, Anchorage, Alaska. In accordance with Title 43, Code of Federal Regulations, these diagrams are the basic record for the description of mineral and oil and gas lease sales in the geographic areas they represent.

Description | Date
NM01-03 Kanaga Basin | 03-JUN-2003
NM01-04 (Unnamed) | 03-JUN-2003
NM01-05 (Unnamed) | 03-JUN-2003
NM01-06 (Unnamed) | 03-JUN-2003
NM02-02 Maury Deep | 03-JUN-2003
NM02-03 (Unnamed) | 03-JUN-2003
NM02-04 (Unnamed) | 03-JUN-2003
NM02-05 (Unnamed) | 03-JUN-2003
NM03-01 (Unnamed) | 03-JUN-2003
NM59-02 (Unnamed) | 03-JUN-2003
NM59-04 (Unnamed) | 03-JUN-2003
NM60-01 Murray Canyon | 03-JUN-2003
NM60-03 (Unnamed) | 03-JUN-2003
NM60-04 (Unnamed) | 03-JUN-2003
NM60-06 (Unnamed) | 03-JUN-2003
NN01-03 Bowers Ridge | 03-JUN-2003
NN01-04 Bowers Seamount | 03-JUN-2003
NN01-05 Pochnoi Trough | 03-JUN-2003
NN01-06 Korovin Canyon | 03-JUN-2003
NN02-01 Pribilof Canyon West | 03-JUN-2003
NN02-02 Pribilof Canyon | 03-JUN-2003
NN02-03 Chagulak Canyon | 03-JUN-2003
NN02-05 Amlia Knoll | 03-JUN-2003
NN03-01 Akutan North | 03-JUN-2003
NN03-07 (Unnamed) | 03-JUN-2003
NN03-08 Aleutian Trench | 03-JUN-2003
NN04-04 Shumagin Bank | 03-JUN-2003
NN04-05 Derickson Seamount | 03-JUN-2003
NN04-06 Walls Knoll | 03-JUN-2003
NN04-07 Sirius Seamount | 03-JUN-2003
NN05-02 (Unnamed) | 03-JUN-2003
NN05-03 Chirikof Seamount | 03-JUN-2003
NN05-05 (Unnamed) | 03-JUN-2003
NN08-01 Baker Fan | 03-JUN-2003
NN60-03 Ulm Plateau | 03-JUN-2003
NN60-04 Bowers Bank | 03-JUN-2003
NN60-05 (Unnamed) | 03-JUN-2003
NN60-06 Rude Canyon | 03-JUN-2003
NO01-02 Pervenets Canyon East | 03-JUN-2003
NO01-04 Zhemchug Spur | 03-JUN-2003
NO02-01 St. Matthew South | 03-JUN-2003
NO02-02 Cape Mendenhall West | 03-JUN-2003
NO02-03 Bering Sea | 03-JUN-2003
NO02-04 St. Paul North | 03-JUN-2003
NO02-05 St. Paul Spur | 03-JUN-2003
NO02-07 St. George Canyon | 03-JUN-2003
NO03-03 Cape Newenham West | 03-JUN-2003
NO03-05 St. Paul East | 03-JUN-2003
NO03-06 Bristol Bay North | 03-JUN-2003
NO03-07 St. George East | 03-JUN-2003
NO03-08 Bristol Bay | 03-JUN-2003
NO04-05 Ugashik West | 03-JUN-2003
NO05-08 Albatross Bank | 03-JUN-2003
NO06-03 Portlock Bank | 03-JUN-2003
NO06-04 Dall Seamount | 03-JUN-2003
NO06-05 Kodiak East | 03-JUN-2003
NO06-06 Surveyor Seachannel | 03-JUN-2003
NO06-07 (Unnamed) | 03-JUN-2003
NO07-03 Icy Bay South | 03-JUN-2003
NO07-05 (Unnamed) | 03-JUN-2003
NO07-06 (Unnamed) | 03-JUN-2003
NO07-08 (Unnamed) | 03-JUN-2003
NP01-08 St. Matthew West | 03-JUN-2003
NP02-03 Gambell South | 03-JUN-2003
NP02-05 St. Matthew North | 03-JUN-2003
NP02-06 Hooper Bay West | 03-JUN-2003
NP02-08 Nunivak Island West | 03-JUN-2003
NP03-01 Norton Sound | 03-JUN-2003

FOR FURTHER INFORMATION CONTACT: Copies of Official Protraction Diagrams may be purchased for $2.00 each from the Minerals Management Service, Alaska OCS Region, 949 East 36th Avenue, Room 300, Anchorage, Alaska 99508-4363, Attention: Library, (907) 271-6438.

SUPPLEMENTARY INFORMATION: Official Protraction Diagrams may be obtained in two digital formats: .gra files for use in ARC/INFO and .pdf files for viewing and printing in Acrobat. Copies are also available for download at: http://www.mms.gov/ld/alaska.html.

Dated: February 23, 2004.
Thomas A. Readinger,
Associate Director for Offshore, Minerals Management.

[FR Doc. 04-7769 Filed 4-5-04; 8:45 am]

BILLING CODE 4310-MR-P